DEPARTMENT OF TRANSPORTATION

Federal Highway Administration

Environmental Impact Statement: Rock and Walworth Counties, Wisconsin

AGENCY: Federal Highway Administration (FHWA), DOT.

ACTION: Notice of intent to prepare an Environmental Impact Statement.

SUMMARY: The FHWA is issuing this notice to advise the public that an Environmental Impact Statement (EIS) will be prepared for the proposed improvement of USH 14/STH 11 between Janesville, in Rock County, and IH 43 near Darien, in Walworth County, Wisconsin.

FOR FURTHER INFORMATION CONTACT: Mr. Mark Chandler, Field Operations Engineer, Federal Highway Administration 567 D'Onofrio Drive, Suite 100, Madison, Wisconsin, 53719-2814; telephone: (608) 829-7514. You may also contact Mr. Eugene Johnson, Director, Bureau of Equity and Environmental Services, Wisconsin Department of Transportation, P.O. Box 7965, Madison, Wisconsin, 53707-7965; telephone: (608) 267-9527.

SUPPLEMENTARY INFORMATION:

Electronic Access

An electronic copy of this document may be downloaded from the Government Printing Offices' Electronic Bulletin Board Service at (202) 512-1661, by using a computer, modem, and suitable communications software. Internet users may reach the Office of Federal Register's home page at: http://www.archives.gov/ and the Government Printing Offices' database at: http://www.gpoaccess.gov/nara/index.html.

Background

The FHWA, in cooperation with the Wisconsin Department of Transportation, will prepare an Environmental Impact Statement to evaluate improvement alternatives for USH 14/STH 11. The project begins at USH 14 on the northwest side of Janesville, in Rock County, and extends approximately 25 miles to IH 43 near Darien, in Walworth County, Wisconsin. The EIS will be prepared in accordance with 40 CFR Part 1500 and FHWA regulations.

Improvements to the highway are considered necessary to lessen congestion, improve safety, and provide efficient regional connections.

Planning, environmental, and engineering studies are underway to develop transportation alternatives. The EIS will assess the need, location, and environmental impacts of alternatives within the study area. Possible improvement alternatives include a no build alternative, which assumes the continued use of the existing facility with the improvements necessary to ensure its continued use; an improved 2-lane highway with intersection improvements, passing lanes, and wider shoulders; the addition of lanes to create a 4-lane highway, and evaluation of one or more alternatives that follow new alignments. In addition, alternatives for a potential by-pass connecting USH 14 and STH 11 on the west side of Janesville will be evaluated. These alternatives include 2 and 4-lane connections along various alignments, as well as consideration of a freeway type highway.

Information describing the proposed action and soliciting comments will be sent to appropriate Federal, State, and local agencies, and to private organizations and citizens who have previously expressed, or are known to have interest in this proposal. Local officials and the public will be given many opportunities to provide comments during the course of the study. There will be public information meetings throughout the data gathering and development and evaluation of alternatives. Two public hearings will be held. Public notice will be given of the time and place of the meetings and hearings. The Draft EIS will be available for public and agency review prior to the hearings. Several newsletters will be sent to keep local residents informed of the study's progress. A project Web site has been established to help provide information on the project. The Web site address is http://www.dot.wisconsin.gov/projects/dl/wis11study/index.htm.

In addition, two committees have been formed, a Technical Committee and an Advisory Committee, that will meet throughout the life of the study. These committees are made up of local government officials and agency personnel and they will be responsible for helping define the project purpose and need, as well as providing input and comments on alternatives.

The anticipated format for the EIS will be Screening Worksheets rather than the typical narrative form. The Wisconsin Department of Transportation has developed a series of Environmental Screening Worksheets, which are divided into Basic Sheets and Factor Sheets. The Screening Worksheets provide a flexible means of addressing the requirements for an Environmental Document.

To ensure that the full range of issues related to this proposed action is addressed, and all substantive issues are identified, comments and suggestions are invited from all interested parties. Comments or questions concerning this proposed action and the EIS should be directed to FHWA or the Wisconsin Department of Transportation at the addresses provided in the caption FOR FURTHER INFORMATION CONTACT.

Federal law prohibits discrimination on the basis of race, color, age, sex, or country of national origin in the implementation of this action. It is also Federal and State policy that no group of people bears the negative consequences of this action in a disproportionately high and adverse manner without adequate mitigation.

Authority: 23 U.S.C. 315; 49 CFR 1.48.

Issued on: May 24, 2007.
Mark R. Chandler,
Field Operations Engineer, Federal Highway Administration, Madison, Wisconsin.

[FR Doc. 07-3141 Filed 6-26-07; 8:45 am]

BILLING CODE 4910-22-M